DEPARTMENT OF COMMERCE

International Trade Administration

[A-533-883, A-588-878, and A-549-837]

Glycine From India, Japan, and Thailand: Initiation of Less-Than-Fair-Value Investigations

AGENCY: Enforcement and Compliance, International Trade Administration, Department of Commerce.

DATES: Applicable April 17, 2018.

FOR FURTHER INFORMATION CONTACT: Edythe Artman at (202) 482-3931 or Kent Boydston at (202) 482-5649 (India); Madeline Heeren at (202) 482-9179 or John McGowan at (202) 482-3019 (Japan); and Brian Smith at (202) 482-1766 or Jesus Saenz at (202) 482-8184 (Thailand); AD/CVD Operations, Enforcement and Compliance, International Trade Administration, U.S. Department of Commerce, 1401 Constitution Avenue NW, Washington, DC 20230.

SUPPLEMENTARY INFORMATION:

The Petitions

On March 28, 2018, the U.S. Department of Commerce (Commerce) received antidumping duty (AD) Petitions concerning imports of glycine from India, Japan, and Thailand, and countervailing duty (CVD) Petitions concerning imports of glycine from the People's Republic of China, India, and Thailand filed in proper form on behalf of GEO Specialty Chemicals, Inc., and Chattem Chemicals, Inc. (the petitioners).¹ The petitioners are domestic producers of glycine.²

¹ See the petitioners' letter, “Glycine from the People's Republic of China, India, Japan and Thailand: Petitions for Imposition of Antidumping and Countervailing Duties,” dated March 28, 2018 (the Petitions). For the purposes of the instant notice, all references to `the Petitions,' herein, refer specifically to the AD Petitions.

² See Volume I of the Petitions, at 4-5.

On April 2, 6, and 10, 2018, Commerce requested supplemental information pertaining to certain areas of the Petitions.³ The petitioners filed responses to these requests on April 4, 5, 9, 10, and 11, 2018.⁴ On April 10, 2018, the petitioners submitted certain revisions to the scope.⁵ On April 16, 2018, the petitioners submitted a revised publicly summarized affidavit and attachment to the Second AD Thailand Supplement in response to Commerce's request.⁶

³ See Commerce's letters, “Petition for the Imposition of Antidumping and Countervailing Duties on Imports of Glycine from the People's Republic of China, India, Japan, and Thailand: Supplemental Questions” (General Issues Supplemental Questionnaire); “Petition for the Imposition of Antidumping Duties on Imports of Glycine from India: Supplemental Questions” (India AD Supplemental Questionnaire); “Petition for the Imposition of Antidumping Duties on Imports of Glycine from Japan: Supplemental Questions” (Japan AD Supplemental Questionnaire); and “Petition for the Imposition of Antidumping Duties on Imports of Glycine from Thailand: Supplemental Questions” (Thailand AD Supplemental Questionnaire). All four of these documents are dated April 2, 2018. See also “Petition for the Imposition of Antidumping Duties on Imports of Glycine from India: Supplemental Questions;” “Petition for the Imposition of Antidumping Duties on Imports of Glycine from Thailand: Additional Supplemental Questions;” and Commerce's memorandum, “Petition for the Imposition of Antidumping Duties on Glycine from Thailand: Phone Call with Counsel to the Petitioners.” All four of these documents are dated April 6, 2018. See also Commerce's memoranda, “Petitions for the Imposition of Antidumping and Countervailing Duties on Imports of Glycine from the People's Republic of China, India, Japan, and Thailand,” dated April 10, 2018; and “Petition for the Imposition of Antidumping Duties on Imports of Glycine from Japan,” dated April 11, 2018.

⁴ See the petitioners' separate letters regarding General Issues, India, Japan and Thailand, each entitled, “Petitions for the Imposition of Antidumping Duties on Imports of Glycine from India, Japan and Thailand, and Countervailing Duties on Imports from the People's Republic of China, India and Thailand: Responses to Supplemental Questions” (General Issues Supplement), dated April 4, 2018; “Glycine from India: Responses to Supplemental Questions” (India AD Supplement), dated April 5, 2018; “Glycine from Japan: Responses to Supplemental Questions” (Japan AD Supplement), dated April 5, 2018; and “Glycine from Thailand: Responses to Supplemental Questions” (Thai AD Supplement), dated April 5, 2018. See also the petitioners' separate letters regarding “Glycine from Thailand: Submission of Missing Declaration,” and “Glycine from Japan: Additional Responses to Supplemental Questions.” These two documents are dated April 5, 2018. See also the petitioners' separate letters regarding “Glycine from India: Response to Second Supplemental Questionnaire” (Second India AD Supplement); and “Glycine from Thailand: Response to Second Supplemental Questionnaire” (Second Thailand AD Supplement). These two documents are dated April 9, 2018. See also the petitioners' separate letters regarding “Petitions for the Imposition of Antidumping Duties on Imports of Glycine from India, Japan and Thailand, and Countervailing Duties on Imports from the People's Republic of China, India and Thailand: Revised Scope” (Revised Scope Submission), dated April 10, 2018; and “Glycine from Japan: Additional Calculations” (Second Japan AD Supplement), dated April 11, 2018.

⁵ See Memorandum, “Phone Call with Counsel to the Petitioners,” dated April 10, 2018; see also Petitioners' Letter, “Petitions for the Imposition of Antidumping Duties on Imports of Glycine from India, Japan and Thailand, and Countervailing Duties on Imports from the People's Republic of China, India and Thailand: Revised Scope,” dated April 10, 2018 (Revised Scope Submission), at 1-2.

⁶ See Memorandum, “Phone Call with Counsel to the Petitioners,” dated April 13, 2018; and the petitioners' letter, “Glycine from Thailand: Revised Bracketing,” dated April 16, 2018.

In accordance with section 732(b) of the Tariff Act of 1930, as amended (the Act), the petitioners allege that imports of glycine from India, Japan, and Thailand are being, or are likely to be, sold in the United States at less than fair value within the meaning of section 731 of the Act, and that such imports are materially injuring, or threatening material injury to, the domestic industry producing glycine in the United States. Consistent with section 732(b)(1) of the Act, the Petitions are accompanied by information reasonably available to the petitioners supporting their allegations.

Commerce finds that the petitioners filed the Petitions on behalf of the domestic industry because the petitioners are interested parties as defined in section 771(9)(C) of the Act. Commerce also finds that the petitioners demonstrated sufficient industry support with respect to the initiation of the AD investigations that the petitioners are requesting.⁷

⁷ See the “Determination of Industry Support for the Petitions” section, infra.

Period of Investigation

Because the Petitions were filed on March 28, 2018, the period of investigation (POI) for each of the investigations is January 1, 2017, through December 31, 2017.⁸

⁸ See 19 CFR 351.204(b)(1).

Scope of the Investigations

The product covered by these investigations is glycine from India, Japan, and Thailand. For a full description of the scope of these investigations, see the Appendix to this notice.

Comments on Scope of the Investigations

During our review of the Petitions, Commerce issued questions to, and received responses from, the petitioners pertaining to the proposed scope to ensure that the scope language in the Petitions is an accurate reflection of the product for which the domestic industry is seeking relief.⁹ As a result of these exchanges, the scope of the Petitions was modified to clarify the description of merchandise covered by the Petitions. The description of the merchandise covered by this initiation, as described in the Appendix to this notice, reflects these clarifications.

⁹ See General Issues Supplemental Questionnaire, at 3-5 and General Issues Supplement at 3-8; see also Revised Scope Submission.

As discussed in the Preamble to Commerce's regulations, we are setting aside a period for interested parties to raise issues regarding product coverage (scope).¹⁰ Commerce will consider all comments received from interested parties and, if necessary, will consult with interested parties prior to the issuance of the preliminary determinations. If scope comments include factual information,¹¹ all such factual information should be limited to public information. To facilitate preparation of its questionnaires, Commerce requests that all interested parties submit such comments by 5:00 p.m. Eastern Time (ET) on May 7, 2018, which is 20 calendar days from the signature date of this notice. Any rebuttal comments, which may include factual information, must be filed by 5:00 p.m. ET on May 17, 2018, which is 10 calendar days from the initial comments deadline.¹²

¹⁰ See Antidumping Duties; Countervailing Duties; Final Rule, 62 FR 27296, 27323 (May 19, 1997).

¹¹ See 19 CFR 351.102(b)(21) (defining “factual information”).

¹² See 19 CFR 351.303(b).

Commerce requests that any factual information the parties consider relevant to the scope of the investigations be submitted during this time period. However, if a party subsequently finds that additional factual information pertaining to the scope of the investigations may be relevant, the party may contact Commerce and request permission to submit the additional information. All such comments must be filed on the records of each of the concurrent AD and CVD investigations, in accordance with the filing requirements, discussed immediately below.

Filing Requirements

All submissions to Commerce must be filed electronically using Enforcement and Compliance's Antidumping Duty and Countervailing Duty Centralized Electronic Service System (ACCESS).¹³ An electronically filed document must be received successfully in its entirety by the time and date it is due. Documents exempted from the electronic submission requirements must be filed manually (i.e., in paper form) with Enforcement and Compliance's APO/Dockets Unit, Room 18022, U.S. Department of Commerce, 1401 Constitution Avenue NW, Washington, DC 20230, and stamped with the date and time of receipt by the applicable deadlines.

¹³ See Antidumping and Countervailing Duty Proceedings: Electronic Filing Procedures; Administrative Protective Order Procedures, 76 FR 39263 (July 6, 2011); see also Enforcement and Compliance; Change of Electronic Filing System Name, 79 FR 69046 (November 20, 2014) for details of Commerce's electronic filing requirements, effective August 5, 2011. Information on help using ACCESS can be found at https://access.trade.gov/help.aspx and a handbook can be found at https://access.trade.gov/help/Handbook%20on%20Electronic%20Filling%20Procedures.pdf.

Comments on Product Characteristics for AD Questionnaires

Commerce requests comments from interested parties regarding the appropriate physical characteristics of glycine to be reported in response to Commerce's AD questionnaires. This information will be used to identify the key physical characteristics of the merchandise under consideration in order to report the relevant costs of production accurately as well as to develop appropriate product-comparison criteria.

Interested parties may provide any information or comments that they feel are relevant to the development of an accurate list of physical characteristics. Specifically, they may provide comments as to which characteristics are appropriate to use as: (1) General product characteristics, and (2) product-comparison criteria. We note that it is not always appropriate to use all product characteristics as product-comparison criteria. We base product-comparison criteria on meaningful commercial differences among products. In other words, although there may be some physical product characteristics utilized by manufacturers to describe glycine, it may be that only a select few product characteristics take into account commercially meaningful physical characteristics. In addition, interested parties may comment on the order in which the physical characteristics should be used in matching products. Generally, Commerce attempts to list the most important physical characteristics first and the least important characteristics last.

In order to consider the suggestions of interested parties in developing and issuing the AD questionnaires, all product characteristics comments must be filed by 5:00 p.m. ET on May 7, 2018. Any rebuttal comments must be filed by 5:00 p.m. ET on May 14, 2018. All comments and submissions to Commerce must be filed electronically using ACCESS, as explained above, on the records of the India, Japan, and Thailand less-than-fair-value investigations.

Determination of Industry Support for the Petitions

Section 732(b)(1) of the Act requires that a petition be filed on behalf of the domestic industry. Section 732(c)(4)(A) of the Act provides that a petition meets this requirement if the domestic producers or workers who support the petition account for: (i) At least 25 percent of the total production of the domestic like product; and (ii) more than 50 percent of the production of the domestic like product produced by that portion of the industry expressing support for, or opposition to, the petition. Moreover, section 732(c)(4)(D) of the Act provides that, if the petition does not establish support of domestic producers or workers accounting for more than 50 percent of the total production of the domestic like product, Commerce shall: (i) Poll the industry or rely on other information in order to determine if there is support for the petition, as required by subparagraph (A); or (ii) determine industry support using a statistically valid sampling method to poll the “industry.”

Section 771(4)(A) of the Act defines the “industry” as the producers, as a whole, of a domestic like product. Thus, to determine whether a petition has the requisite industry support, the statute directs Commerce to look to producers and workers who produce the domestic like product. The International Trade Commission (ITC), which is responsible for determining whether “the domestic industry” has been injured, must also determine what constitutes a domestic like product in order to define the industry. While both Commerce and the ITC must apply the same statutory definition regarding the domestic like product,¹⁴ they do so for different purposes and pursuant to a separate and distinct authority. In addition, Commerce's determination is subject to limitations of time and information. Although this may result in different definitions of the like product, such differences do not render the decision of either agency contrary to law.¹⁵

¹⁴ See section 771(10) of the Act.

¹⁵ See USEC, Inc. v. United States, 132 F. Supp. 2d 1, 8 (CIT 2001) (citing Algoma Steel Corp., Ltd. v. United States, 688 F. Supp. 639, 644 (CIT 1988), aff'd 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioners do not offer a definition of the domestic like product distinct from the scope of the investigations.¹⁶ Based on our analysis of the information submitted on the record, we have determined that glycine, as defined in the scope, constitutes a single domestic like product, and we have analyzed industry support in terms of that domestic like product.¹⁷

¹⁶ See Volume I of the Petitions, at 7.

¹⁷ For a discussion of the domestic like product analysis as applied to these cases and information regarding industry support, see Antidumping Duty Investigation Initiation Checklist: Glycine from India (India AD Initiation Checklist), at Attachment II, Analysis of Industry Support for the Antidumping and Countervailing Duty Petitions Covering Glycine from the People's Republic of China, India, Japan, and Thailand (Attachment II); Antidumping Duty Investigation Initiation Checklist: Glycine from Japan (Japan AD Initiation Checklist), at Attachment II; and Antidumping Duty Investigation Initiation Checklist: Glycine from Thailand (Thailand AD Initiation Checklist), at Attachment II. These checklists are dated concurrently with this notice and on file electronically via ACCESS. Access to documents filed via ACCESS is also available in the Central Records Unit, Room B8024 of the main Department of Commerce building.

In determining whether the petitioners have standing under section 732(c)(4)(A) of the Act, we considered the industry support data contained in the Petitions with reference to the domestic like product as defined in the “Scope of the Investigations,” in the Appendix to this notice. To establish industry support, the petitioners provided their own production of the domestic like product in 2017.¹⁸ The petitioners state that there are no other known producers of glycine in the United States; therefore, the Petitions are supported by 100 percent of the U.S. industry.¹⁹

¹⁸ See Volume I of the Petitions, at 2.

¹⁹ Id., at 6; see also General Issues Supplement, at 8 and Exhibit GEN-S4. For further discussion, see India AD Initiation Checklist, Japan AD Initiation Checklist, and Thailand AD Initiation Checklist, at Attachment II.

Our review of the data provided in the Petitions, the General Issues Supplement, and other information readily available to Commerce indicates that the petitioners have established industry support for the Petitions.²⁰ First, the Petitions established support from domestic producers (or workers) accounting for more than 50 percent of the total production of the domestic like product and, as such, Commerce is not required to take further action in order to evaluate industry support (e.g., polling).²¹ Second, the domestic producers (or workers) have met the statutory criteria for industry support under section 732(c)(4)(A)(i) of the Act because the domestic producers (or workers) who support the Petitions account for at least 25 percent of the total production of the domestic like product.²² Finally, the domestic producers (or workers) have met the statutory criteria for industry support under section 732(c)(4)(A)(ii) of the Act because the domestic producers (or workers) who support the Petitions account for more than 50 percent of the production of the domestic like product produced by that portion of the industry expressing support for, or opposition to, the Petitions.²³ Accordingly, Commerce determines that the Petitions were filed on behalf of the domestic industry within the meaning of section 732(b)(1) of the Act.

²⁰ Id.

²¹ Id.; see also section 732(c)(4)(D) of the Act.

²² See India AD Initiation Checklist, Japan AD Initiation Checklist, and Thailand AD Initiation Checklist, at Attachment II.

²³ Id.

Commerce finds that the petitioners filed the Petitions on behalf of the domestic industry because they are interested parties as defined in section 771(9)(C) of the Act, and they have demonstrated sufficient industry support with respect to the AD investigations that they are requesting that Commerce initiate.²⁴

²⁴ Id.

Allegations and Evidence of Material Injury and Causation

The petitioners allege that the U.S. industry producing the domestic like product is being materially injured, or is threatened with material injury, by reason of the imports of the subject merchandise sold at less than normal value (NV). In addition, the petitioners allege that subject imports exceed the negligibility threshold provided for under section 771(24)(A) of the Act.²⁵

²⁵ See Volume I of the Petitions, at 38-39; see also General Issues Supplement, at 8 and Exhibit GEN-S5.

The petitioners contend that the industry's injured condition is illustrated by a significant and increasing volume of subject imports, reduced market share, underselling and price depression or suppression, decline in the domestic industry's shipments, production, and capacity utilization, decline in the domestic industry's financial performance, and lost sales and revenues.²⁶ We have assessed the allegations and supporting evidence regarding material injury, threat of material injury, causation, as well as cumulation, and we have determined that these allegations are properly supported by adequate evidence, and meet the statutory requirements for initiation.²⁷

²⁶ Id., at 1-3, 33-49 and Exhibits GEN-2 and GEN-4 through GEN-6; see also General Issues Supplement, at 1, 8-9 and Exhibits GEN-S1 and GEN-S5.

²⁷ See India AD Initiation Checklist, at Attachment III, Analysis of Allegations and Evidence of Material Injury and Causation for the Antidumping and Countervailing Duty Petitions Covering Glycine from the People's Republic of China, India, Japan, and Thailand (Attachment III); see also Japan AD Initiation Checklist, at Attachment III; see also Thailand AD Initiation Checklist, at Attachment III.

Allegations of Sales at Less Than Fair Value

The following is a description of the allegations of sales at less than fair value upon which Commerce based its decision to initiate AD investigations of imports of glycine from India, Japan, and Thailand. The sources of data for the deductions and adjustments relating to U.S. price and NV are discussed in greater detail in the country-specific initiation checklists.

Export Price

For India, Japan, and Thailand, the petitioners based export price (EP) on pricing information for glycine produced in, and exported from, those countries and sold or offered for sale in the United States.²⁸ For Thailand, the petitioners also based EP on the average unit value of publicly available import data.²⁹

²⁸ See India AD Initiation Checklist, Japan AD Initiation Checklist, and Thailand AD Initiation Checklist.

²⁹ See Thailand AD Initiation Checklist.

Where appropriate, the petitioners made deductions from U.S. price consistent with the terms of sale, as applicable.³⁰

³⁰ See India AD Initiation Checklist, Japan AD Initiation Checklist, and Thailand AD Initiation Checklist.

Normal Value

For India, Japan and Thailand, the petitioners obtained home market prices but demonstrated that these prices were below the cost of production (COP) during the proposed POI. Therefore, the petitioners calculated NV based on constructed value (CV) pursuant to section 773(a)(4) of the Act. See the section “Normal Value Based on Constructed Value” below.³¹

³¹ In accordance with section 505(a) of the Trade Preferences Extension Act of 2015, amending section 773(b)(2) of the Act, for these investigations, Commerce will request information necessary to calculate the CV and COP to determine whether there are reasonable grounds to believe or suspect that sales of the foreign like product have been made at prices that represent less than the COP of the product. Commerce no longer requires a COP allegation to conduct this analysis.

Normal Value Based on Constructed Value

As noted above, for India, Japan, and Thailand, the petitioners were able to obtain home market prices but demonstrated that these prices were below the COP during the POI; therefore, the petitioners based NV on CV pursuant to section 773(a)(4) of the Act. Pursuant to section 773(b)(3) of the Act, CV consists of the cost of manufacturing (COM); selling, general and administrative (SG&A) expenses; financial expenses; profit; and packing expenses.

For India, the petitioners calculated the COM based on a domestic producer's own input factors of production and usage rates for raw materials, energy, and packing.³² The input factors of production were valued using publicly available data on costs specific to India, during the proposed POI.³³ Specifically, the prices for raw material and packing inputs were based on publicly available import data for India.³⁴ Labor and energy costs were valued using publicly available sources for India.³⁵ The petitioners calculated factory overhead, SG&A (including financial expenses) and profit based on the experience of an Indian producer of glycine.³⁶

³² See India AD Initiation Checklist.

³³ Id.

³⁴ Id.

³⁵ Id.

³⁶ Id.

For Japan, the petitioners calculated the COM based on a domestic producer's own input factors of production and usage rates for raw materials, energy, and packing.³⁷ The input factors of production were valued using publicly available data on costs specific to Japan, during the proposed POI.³⁸ Specifically, the prices for raw material and packing inputs were based on publicly available import or export data for Japan.³⁹ Labor and energy costs were valued using publicly available sources from Japan.⁴⁰ The petitioners calculated factory overhead, SG&A (including financial expenses) and profit based on the experience of a Japanese producer of glycine.⁴¹

³⁷ See Japan AD Initiation Checklist.

³⁸ Id.

³⁹ Id.

⁴⁰ Id.

⁴¹ Id.

For Thailand, the petitioners calculated the COM based on a domestic producer's own input factors of production and usage rates for raw materials, labor, energy, and packing.⁴² The input factors of production were valued using publicly available data on costs specific to Thailand, during the proposed POI.⁴³ Specifically, the prices for raw material and packing inputs were based on publicly available import data for Thailand.⁴⁴ Labor and energy costs were valued using publicly available sources for Thailand.⁴⁵ The petitioners calculated factory overhead, SG&A (including financial expenses), and profit for Thailand based the experience of a Thai producer of glycine.⁴⁶

⁴² See Thailand AD Initiation Checklist.

⁴³ Id.

⁴⁴ Id.

⁴⁵ Id.

⁴⁶ Id.

Fair Value Comparisons

Based on the data provided by the petitioners, there is reason to believe that imports of glycine from India, Japan, and Thailand are being, or are likely to be, sold in the United States at less than fair value. Based on comparisons of EP to NV in accordance with sections 772 and 773 of the Act, the estimated dumping margins for glycine for each of the countries covered by this initiation are as follows: (1) India—80.49 percent; ⁴⁷ (2) Japan—86.22 percent; ⁴⁸ and (3) Thailand—176.00 to 227.17 percent.⁴⁹

⁴⁷ See India AD Initiation Checklist.

⁴⁸ See Japan AD Initiation Checklist.

⁴⁹ See Thailand AD Initiation Checklist.

Initiation of Less-Than-Fair-Value Investigations

Based upon the examination of the Petitions, we find that the Petitions meet the requirements of section 732 of the Act. Therefore, we are initiating AD investigations to determine whether imports of glycine from India, Japan, and Thailand are being, or are likely to be, sold in the United States at less than fair value. In accordance with section 733(b)(1)(A) of the Act and 19 CFR 351.205(b)(1), unless postponed, we will make our preliminary determinations no later than 140 days after the date of this initiation.

Respondent Selection

In the Petitions, the petitioners named ten companies in India, nine companies in Japan, and one company in Thailand, as producers/exporters of glycine.⁵⁰ With regard to India and Japan, following standard practice in AD investigations involving market economy countries, in the event Commerce determines that the number of companies is large and it cannot individually examine each company based upon Commerce's resources, where appropriate, Commerce intends to select respondents based on U.S. Customs and Border Protection (CBP) data for U.S. imports of glycine from India and Japan during the POI under the appropriate Harmonized Tariff Schedule of the United States numbers listed in the “Scope of the Investigations,” in the Appendix.

⁵⁰ See Volume I of the Petitions, at 23-28.

We also intend to release the CBP data under Administrative Protective Order (APO) to all parties with access to information protected by APO on the record within five business days of publication of this Federal Register notice. Comments regarding the CBP data and respondent selection should be submitted seven calendar days after the placement of the CBP data on the record of these investigations. Parties wishing to submit rebuttal comments should submit those comments five calendar days after the deadline for the initial comments. Interested parties must submit applications for disclosure under APO in accordance with 19 CFR 351.305(b). Instructions for filing such applications may be found on the Commerce's website at http://enforcement.trade.gov/apo.

Although Commerce normally relies on import data from CBP to determine whether to select a limited number of producers/exporters for individual examination in AD investigations involving market economy countries, the petitioners identified only one company as a producer/exporter of glycine in Thailand, Newtrend Food Ingredient (Thailand) Co., Ltd., and the petitioners provided information from independent sources as support.⁵¹ Furthermore, we currently know of no additional producers/exporters of subject merchandise from Thailand. Accordingly, Commerce intends to examine all known producers/exporters in the Thailand AD investigation (i.e., Newtrend Food Ingredient (Thailand) Co., Ltd.). We invite interested parties to comment on this issue. Parties wishing to comment on respondent selection for Thailand must do so within three business days of the publication of this notice.

⁵¹ See Volume I of the Petitions, at Exhibit GEN-6; see also General Issues Supplement, at 2 and Exhibit GEN-S2.

All respondent selection comments must be filed electronically using ACCESS. An electronically-filed document must be received successfully, in its entirety, by Commerce's electronic records system, ACCESS, no later than 5:00 p.m. ET on the dates noted above. We intend to make our decisions regarding respondent selection within 20 days of publication of this notice.

Distribution of Copies of the Petitions

In accordance with section 732(b)(3)(A)(i) of the Act and 19 CFR 351.202(f), copies of the public version of the Petitions have been provided to the governments of India, Japan, and Thailand via ACCESS. To the extent practicable, we will attempt to provide a copy of the public version of the Petitions to each exporter named in the Petitions, as provided under 19 CFR 351.203(c)(2).

ITC Notification

We will notify the ITC of our initiation, as required by section 732(d) of the Act.

Preliminary Determinations by the ITC

The ITC will preliminarily determine, within 45 days after the date on which the Petitions were filed, whether there is a reasonable indication that imports of glycine from India, Japan, and/or Thailand are materially injuring, or threatening material injury to, a U.S. industry.⁵² A negative ITC determination for any country will result in the investigation being terminated with respect to that country.⁵³ Otherwise, the investigations will proceed according to statutory and regulatory time limits.

⁵² See section 733(a) of the Act.

⁵³ Id.

Submission of Factual Information

Factual information is defined in 19 CFR 351.102(b)(21) as: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). Any party, when submitting factual information, must specify under which subsection of 19 CFR 351.102(b)(21) the information is being submitted ⁵⁴ and, if the information is submitted to rebut, clarify, or correct factual information already on the record, to provide an explanation identifying the information already on the record that the factual information seeks to rebut, clarify, or correct.⁵⁵ Time limits for the submission of factual information are addressed in 19 CFR 351.301, which provides specific time limits based on the type of factual information being submitted. Interested parties should review the regulations prior to submitting factual information in these investigations.

⁵⁴ See 19 CFR 351.301(b).

⁵⁵ See 19 CFR 351.301(b)(2).

Extensions of Time Limits

Parties may request an extension of time limits before the expiration of a time limit established under 19 CFR 351.301, or as otherwise specified by the Secretary. In general, an extension request will be considered untimely if it is filed after the expiration of the time limit established under 19 CFR 351.301. For submissions that are due from multiple parties simultaneously, an extension request will be considered untimely if it is filed after 10:00 a.m. ET on the due date. Under certain circumstances, we may elect to specify a different time limit by which extension requests will be considered untimely for submissions which are due from multiple parties simultaneously. In such a case, we will inform parties in the letter or memorandum setting forth the deadline (including a specified time) by which extension requests must be filed to be considered timely. An extension request must be made in a separate, stand-alone submission; under limited circumstances we will grant untimely-filed requests for the extension of time limits. Parties should review Extension of Time Limits; Final Rule, 78 FR 57790 (September 20, 2013), available at http://www.gpo.gov/fdsys/pkg/FR-2013-09-20/html/2013-22853.htm, prior to submitting factual information in these investigations.

Certification Requirements

Any party submitting factual information in an AD or CVD proceeding must certify to the accuracy and completeness of that information.⁵⁶ Parties must use the certification formats provided in 19 CFR 351.303(g).⁵⁷ Commerce intends to reject factual submissions if the submitting party does not comply with the applicable certification requirements.

⁵⁶ See section 782(b) of the Act.

⁵⁷ See also Certification of Factual Information to Import Administration During Antidumping and Countervailing Duty Proceedings, 78 FR 42678 (July 17, 2013) (Final Rule). Answers to frequently asked questions regarding the Final Rule are available at http://enforcement.trade.gov/tlei/notices/factual_info_final_rule_FAQ_07172013.pdf.

Notification to Interested Parties

Interested parties must submit applications for disclosure under APO in accordance with 19 CFR 351.305. On January 22, 2008, Commerce published Antidumping and Countervailing Duty Proceedings: Documents Submission Procedures; APO Procedures, 73 FR 3634 (January 22, 2008). Parties wishing to participate in these investigations should ensure that they meet the requirements of these procedures (e.g., the filing of letters of appearance as discussed at 19 CFR 351.103(d)).

This notice is issued and published pursuant to sections 732(c)(2) and 777(i) of the Act, and 19 CFR 351.203(c).

Dated: April 17, 2018.
Gary Taverman,
Deputy Assistant Secretary for Antidumping and Countervailing Duty Operations, performing the non-exclusive functions and duties of the Assistant Secretary for Enforcement and Compliance.

Appendix

Scope of the Investigations

The merchandise covered by these investigations is glycine at any purity level or grade. This includes glycine of all purity levels, which covers all forms of crude or technical glycine including, but not limited to, sodium glycinate, glycine slurry and any other forms of amino acetic acid or glycine. Subject merchandise also includes glycine and precursors of dried crystalline glycine that are processed in a third country, including, but not limited to, refining or any other processing that would not otherwise remove the merchandise from the scope of these investigations if performed in the country of manufacture of the in-scope glycine or precursors of dried crystalline glycine. Glycine has the Chemical Abstracts Service (CAS) registry number of 56-40-6. Glycine and glycine slurry are classified under Harmonized Tariff Schedule of the United States (HTSUS) subheading 2922.49.43.00. Sodium glycinate is classified in the HTSUS under 2922.49.80.00. While the HTSUS subheadings and CAS registry number are provided for convenience and customs purposes, the written description of the scope of these investigations is dispositive.

[FR Doc. 2018-08664 Filed 4-24-18; 8:45 am]

BILLING CODE 3510-DS-P